FEDERAL ELECTION COMMISSION

Sunshine Act Meeting

TIME AND DATE:

Thursday, January 13, 2022 at 10:00 a.m.

PLACE:

Virtual meeting. Note: because of the COVID-19 pandemic, we will conduct the open meeting virtually. If you would like to access the meeting, see the instructions below.

STATUS:

This meeting will be open to the public. To access the virtual meeting, go to the commission's website www.fec.gov and click on the banner to be taken to the meeting page.

MATTERS TO BE CONSIDERED:

Welcoming Remarks

Motion to Instruct Staff to Prepare an Amended Form 1 Acknowledging Independent Expenditure-Only and Hybrid Committees

Draft Advisory Opinion 2021-13: Matthew P. Hoh

Management and Administrative Matters

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2022-00350 Filed 1-6-22; 4:15 pm]

BILLING CODE 6715-01-P